SURFACE TRANSPORTATION BOARD

[Docket No. FD 36706]

BLPI RR L.L.C.—Acquisition and Operation Exemption—Palouse River & Coulee City Railroad L.L.C.

BLPI L.L.C. (BLPI), a noncarrier, has filed a verified notice of exemption under 49 CFR 1150.31 to acquire and operate approximately 43.74 miles of rail line owned by Palouse River & Coulee City Railroad L.L.C. (PCC), extending from milepost 3.32 (Washington-Idaho state line) to milepost 47.06 at Bovill, Idaho, in Latah County, Idaho (the Line).

According to the verified notice, BLPI and PCC entered into a Purchase and Sale Agreement on April 24, 2023, under which BLPI would acquire the Line.¹ The verified notice indicates that BLPI intends to lease the Line to a third-party operator for the purposes of rail service, but BLPI will function as the operator of the Line if it were to so choose.

¹ The eastern portion of the Line, between milepost 21.0 and milepost 47.0, was authorized for abandonment in Palouse River & Coulee City Railroad—Abandonment Exemption—in Latah County, Idaho, AB 570 (Sub-No. 1X) (STB served Oct. 6, 2000). BLPI's verified notice here states that, based on the Board's records, an interim trail use negotiating period for that portion expired without agreement and PCC did not consummate abandonment; BLPI therefore asserts that the eastern portion of the Line remains subject to the Board's jurisdiction and available to be acquired.

BLPI certifies that the proposed transaction does not involve a provision or agreement that would limit future interchange with a third-party connecting carrier. BLPI also certifies that the projected annual revenues resulting from the transaction will not exceed $5 million and will not result in the creation of a Class I or Class II carrier.

The earliest this transaction may be consummated is July 22, 2023, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than July 14, 2023 (at least seven days before the exemption becomes effective).

All pleadings, referring to Docket No. FD 36706, must be filed with the Surface Transportation Board either via e-filing on the Board's website or in writing addressed to 395 E Street SW, Washington, DC 20423-0001. In addition, a copy of each pleading must be served on BLPI's representative, John K. Fiorilla, Dyer & Peterson PC, 605 Main Street, Suite 104, Riverton, NJ 08077-1440.

According to BLPI, this action is categorically excluded from environmental reporting requirements under 49 CFR 1105.6(c) and from historic preservation reporting requirements under 49 CFR 1105.8(b).

Board decisions and notices are available at www.stb.gov.

Decided: June 30, 2023.
By the Board, Mai T. Dinh, Director, Office of Proceedings.
Eden Besera,
Clearance Clerk.

[FR Doc. 2023-14337 Filed 7-6-23; 8:45 am]

BILLING CODE 4915-01-P